DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from July 6, to July 10, 2009.

For further information, please contact Edson Beall via: United States Postal Service mail, at the National Register of Historic Places, 2280, National Park Service, 1849 C St. NW., Washington, DC 20240; in person (by appointment), 1201 Eye St. NW., 8th floor, Washington DC 20005; by fax, 202-371-2229; by phone, 202-354-2255; or by e-mail, Edson_Beall@nps.gov.

Dated: September 2, 2009.
J. Paul Loether,
Chief, National Register of Historic Places/ National Historic Landmarks Program.

Key: State, County, Property Name, Address/Boundary, City, Vicinity, Reference Number, Action, Date, Multiple Name.

ARIZONA

Pima County

Agua Caliente Ranch Rural Historic Landscape, 12325 E. Roger Rd., Tucson vicinity, 04001246, LISTED, 7/09/09. (Cattle Ranching in Arizona MPS.)

CALIFORNIA

Orange County

Cogged Stone Site—CA-ORA-83, Address Restricted, Huntington Beach vicinity, 01001455, DETERMINED ELIGIBLE, 7/10/09.

COLORADO

El Paso County

North Cheyenne Canon Park, 2120 N. Cheyenne Canon Rd., Colorado Springs, 09000489, LISTED, 7/08/09.

Grand County

Little Buckaroo Ranch Barn, 20631 Trail Ridge Rd., Rocky Mountain National Park, Grand Lake vicinity, 09000490, LISTED, 7/08/09.

GEORGIA

Chatham County

Eureka Club—Farr's Point, 2326 E. Blvd., Savannah vicinity, 09000491, LISTED, 7/08/09.

Jasper County

Pope-Talmadge House, 2560 Calvin Rd., Monticello vicinity, 09000492, LISTED, 7/08/09.

KANSAS

Butler County

Loomis-Parry House, 1003 State St., Augusta, 09000495, LISTED, 7/08/09.

Crawford County

First Presbyterian Church, 202 N. Summit, Girard, 09000496, LISTED, 7/08/09.

Douglas County

Mackie, George K., House, 1941 Massachusetts St., Lawrence, 09000497, LISTED, 7/08/09. (Lawrence, Kansas MPS.)

Sedgwick County

Pryor House, 263 S. Pershing, Wichita, 09000499, LISTED, 7/08/09. (Residential Resources of Wichita, Sedgwick County, Kansas 1870-1957.)

Van Arsdale, W.O., House, 201 N. Broadway, Wichita, 09000500, LISTED, 7/08/09. (Residential Resources of Wichita, Sedgwick County, Kansas 1870-1957.)

Winders Historic District, 1038-1040, 1044, and 1045 S. Topeka Ave., Wichita, 09000498, LISTED, 7/08/09. (Residential Resources of Wichita, Sedgwick County, Kansas 1870-1957.)

Trego County

Lipp Barn, 17054 103th Ave., Collyer, 09000501, LISTED, 7/08/09. (Agriculture-Related Resources of Kansas.)

MISSOURI

Cape Girardeau County

Erlbacher Buildings, 1105 and 1107 Broadway, Cape Girardeau, 09000502, LISTED, 7/08/09.

Madison County

Fredericktown Courthouse Square Historic District, 110-145 E. Main St., 106-125 W. Main St., 110-120 S. Main St. and Court Square, Fredericktown, 09000503, LISTED, 7/08/09.

PENNSYLVANIA

Luzerne County

Search, George W., House, 56 S. Main St., Shickshinny, 09000387, LISTED, 7/10/09.

TENNESSEE

Carter County

Shelving Rock Encampment, TN 143 and Smith Branch Rd., Roan Mountain vicinity, 09000533, LISTED, 7/10/09.

Jackson County

Jackson County High School, 707 School Dr., Gainesboro, 09000535, LISTED, 7/08/09.

McMinn County

Trinity United Methodist Church, 100 E. College St., Athens, 09000537, LISTED, 7/07/09.

Shelby County

Idlewild Presbyterian Church, 1750 Union Ave., Memphis, 09000539, LISTED, 7/07/09. (Memphis MPS.)

WASHINGTON

King County

Naval Reserve Armory, 860 Terry Ave. N., Seattle, 09000506, LISTED, 7/08/09.

Women's University Club of Seattle, 1105 6th Ave., Seattle, 09000507, LISTED, 7/10/09.

WISCONSIN

Columbia County

Zion Evangelical Lutheran Church and Parsonage, 236 and 254 W. Mill St., Columbus, 09000509, LISTED, 7/08/09.

[FR Doc. E9-21969 Filed 9-11-09; 8:45 am]

BILLING CODE 4310-70-P